DEPARTMENT OF ENERGY

National Nuclear Security Administration

Minor Construction Threshold Increase

AGENCY: National Nuclear Security Administration, Department of Energy.

ACTION: Notice.

SUMMARY: This notice is being issued under the authority the Atomic Energy Defense Act as amended by the James M. Inhofe National Defense Authorization Act for Fiscal Year 2023. The Department is adjusting the minor construction threshold to account for inflation. The threshold is being increased from $30 million to $34 million.

DATES: The new minor construction threshold is effective on February 9, 2024.

FOR FURTHER INFORMATION CONTACT: Mr. Thomas Wilson, Office of Infrastructure, National Nuclear Security Administration, Department of Energy. Telephone: (301) 903-2173, or email: Thomas.Wilson@nnsa.doe.gov.

SUPPLEMENTARY INFORMATION:

Background

The James M. Inhofe National Defense Authorization Act for Fiscal Year 2023 provides the Department of Energy's National Nuclear Security Administration (DOE/NNSA) Administrator with pilot authority to adjust the minor construction threshold to account for inflation at any point until December 1, 2025. Under this authority, the Administrator must submit a report to the congressional defense committees describing the method used to calculate the adjustment, wait a period of 30 days, and then publish the adjusted threshold to the Federal Register before it can take effect.

NNSA submitted the required report to the congressional defense committees on January 9, 2024. The 30-day waiting period ended on February 8, 2024. The publication of this notice implements the new minor construction threshold of $34 million.

Signing Authority

This document of Department of Energy was signed February 5, 2024, by Jill Hruby, Under Secretary for Nuclear Security and Administrator, NNSA, pursuant to delegated authority from the Secretary of Energy. That document with the original signature and date is maintained by DOE. For administrative purposes only, and in compliance with requirements of the Office of the Federal Register, the undersigned DOE Federal Register Liaison Officer has been authorized to sign and submit the document in electronic format for publication as an official document of the Department of Energy. This administrative Process in no way alters the legal effect of this document upon publication in the Federal Register.

Signed in Washington, DC, on February 6, 2024.
Treena V. Garrett,
Federal Register Liaison Officer, U.S. Department of Energy.

[FR Doc. 2024-02712 Filed 2-8-24; 8:45 am]

BILLING CODE 6450-01-P